DEPARTMENT OF COMMERCE

National Oceanic and Atmospheric Administration

RIN 0648-XE884

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Tuesday, October 4, 2016 through Thursday, October 6, 2016. For agenda details, see SUPPLEMENTARY INFORMATION.

ADDRESSES: The meeting will be held at: Stockton Seaview Hotel, 401 South New York Road, Galloway, NJ 08205, telephone: (609) 652-1800.

Council address: Mid-Atlantic Fishery Management Council, 800 N. State St., Suite 201, Dover, DE 19901; telephone: (302) 674-2331.

FOR FURTHER INFORMATION CONTACT: Christopher M. Moore, Ph.D. Executive Director, Mid-Atlantic Fishery Management Council; telephone: (302) 526-5255. The Council's Web site, www.mafmc.org also has details on the meeting location, proposed agenda, webinar listen-in access, and briefing materials.

SUPPLEMENTARY INFORMATION: The following items are on the agenda, though agenda items may be addressed out of order (changes will be noted on the Council's Web site when possible).

Tuesday, October 4, 2016

Executive Committee

Review 2016 and proposed 2017 implementation plans.

River Herring and Shad (RH/S) Committee

Review updated decision document and develop Committee recommendations on whether to develop an amendment to add RH/S as Council-managed stocks.

Wednesday, October 5, 2016

Blueline Tilefish Framework—Meeting 1

Review background materials and approve range of alternatives.

Law Enforcement Reports

Reports will be received from the NOAA Office of Law Enforcement and the U.S. Coast Guard.

Spiny Dogfish Specifications

Review previously set 2017 specifications and consider any modifications if necessary.

New Jersey Special Management Zone (SMZ) Consideration

Review Monitoring Team Report for SMZ designation of 13 NJ artificial reefs.

River Herring and Shad Stocks in the Fishery

Review Committee recommendations and decide whether to develop an amendment to add RH/S as Council-managed stocks.

Council Communication and Outreach Plan

Review and discuss draft Communication and Outreach Plan

Thursday, October 6, 2016

Draft Environmental Assessment for Amendment 10 the Highly Migratory Species (HMS) FMP

Presentation of Amendment 10 HMS FMP by Jennifer Cudney of HMS, NMFS Southeast Fisheries Science Center (SEFSC) for Council review and comment.

Business Session

Organization Reports; Liaison Reports; Executive Director's Report; Science Report; Committee Reports; and Continuing and New Business.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: September 13, 2016.
Jeffrey N. Lonergan,
Acting Deputy Director, Office of Sustainable Fisheries, National Marine Fisheries Service.

[FR Doc. 2016-22332 Filed 9-15-16; 8:45 am]

BILLING CODE 3510-22-P